FEDERAL COMMUNICATIONS COMMISSION

47 CFR Part 20

[PS Docket No. 07-114; DA 08-2129]

Wireless E911 Location Accuracy Requirements

AGENCY: Federal Communications Commission.

ACTION: Proposed rule; correction.

SUMMARY: The Federal Communications Commission sought comment on proposals in certain ex parte filings submitted by the Association of Public-Safety Communications Officials, International (APCO), the National Emergency Number Association (NENA), AT&T, Sprint Nextel Corporation, and Verizon Wireless regarding location accuracy requirements for wireless licensees subject to the Commission's rules that specify standards for wireless Enhanced 911 (E911) Phase II location accuracy and reliability. The proposed rule stated that “Comments are due October 6, 2008 by 12 p.m. Reply Comments are due October 14, 2008 by 12 p.m.” Only Reply Comments are due by 12 p.m. Comments are due on October 6, 2008.

FOR FURTHER INFORMATION CONTACT: Thomas J. Beers, Chief, Policy Division, Public Safety and Homeland Security Bureau, at (202) 418-0952.

Correction

In the Federal Register of September 25, 2008, in FR Doc. E8-22645, on page 55473, in the first column, correct the DATES caption to read:

DATES: Comments are due October 6, 2008. Reply Comments are due October 14, 2008 by 12 p.m.

Thomas J. Beers,
Division Chief, Policy, Public Safety and Homeland Security Bureau.

[FR Doc. E8-22932 Filed 9-26-08; 8:45 am]

BILLING CODE 6712-01-P